DEPARTMENT OF TRANSPORTATION

National Highway Traffic Safety Administration

49 CFR Part 571

[Docket No. NHTSA 2004-17243]

RIN 2127-AG86

Federal Motor Vehicle Safety Standards; Lamps, Reflective Devices, and Associated Equipment

AGENCY: National Highway Traffic Safety Administration (NHTSA), DOT.

ACTION: Notice of withdrawal of proposed rulemaking.

SUMMARY: This document withdraws a 1998 notice of proposed rulemaking (NPRM) that would have amended the Federal motor vehicle safety standard on lighting to reduce glare from daytime running lamps (DRLs). In late 2001, General Motors (GM) submitted a petition for rulemaking that asked NHTSA to mandate DRLs on new vehicles. We have decided that the issue addressed in the 1998 NPRM, just one of a number of interrelated issues surrounding DRLs, would best be resolved in the context of responding to the GM petition.

FOR FURTHER INFORMATION CONTACT: The following persons at the NHTSA, 400 Seventh Street SW., Washington, DC 20590.

For non-legal issues, you may call Mr. Richard VanIderstine, Office of Crash Avoidance Standards (Telephone: 202-366-2720) (Fax: 202-366-7002).

For legal issues, you may call Mr. Eric Stas, Office of Chief Counsel (Telephone: 202-366-2992) (Fax: 202-366-3820).

SUPPLEMENTARY INFORMATION:

I. Background

Federal Motor Vehicle Safety Standard (FMVSS) No. 108, Lamps, Reflective Devices, and Associated Equipment, establishes lighting requirements for motor vehicles. Although the standard does not require DRLs, it does specify requirements that they must meet if a vehicle manufacturer voluntarily decides to provide them (see 49 CFR 571.108, S5.5.11).

In proposing to permit vehicles to be equipped with DRLs, we stated that limits on the intensity of DRLs were needed to prevent glare and to ensure that DRLs do not mask the vehicle's turn and hazard warning signals (56 FR 38100, August 12, 1991). In the final rule published on January 11, 1993, we adopted the following limitations on DRL intensity: (1) 3,000 cd for lamps other than headlamps, and (2) 7,000 cd for upper beam headlamps used as DRLs at test point H-V, if mounted not higher than 864 mm above the road surface (see 58 FR 3500). No limitation was provided for lower beam headlamps used as DRLs.

Since that time, the number of DRL-equipped vehicles has increased significantly, and NHTSA has received numerous complaints regarding DRL glare. Further, in 1997, the National Motorists Association (NMA) and JCW Consulting submitted petitions for rulemaking that, among other things, asked NHTSA to amend FMVSS No. 108 to reduce DRL intensity and resulting glare.¹

¹ The NMA petition (submitted in August 1997) and the JCW Consulting petition (submitted in September 1997) are discussed in detail in NHTSA's August 7, 1998 Federal Register notice (see 63 FR 42348, 42351). The NMA petition is available under Docket No. NHTSA-1998-3319-21, and the JCW Consulting petition is available under Docket No. NHTSA-1998-3319-22. Both were originally incorporated in Docket submissions No. NHTSA-1998-3319-1 and -2.

NHTSA published a notice of proposed rulemaking in 1998 to amend FMVSS No. 108 to reduce glare from DRLs (63 FR 42348, August 7, 1998). Such reduction would have been accomplished in three stages. The NPRM proposed that one year after publication of the final rule, DRLs utilizing the upper headlight beam would not be permitted to exceed 3,000 cd at any point, thereby becoming subject to the maximum candela permitted for DRLs other than headlamps. Two years after publication of the final rule, that same limitation would have applied to the upper half of lower beam DRLs. Finally, four years after publication of the final rule, all DRLs, except lower beam DRLs, would have been subject to a flat 1,500 cd limit. (Lower beam DRLs would have been limited to 1,500 cd at horizontal or above.) NHTSA anticipated that its proposed approach would have provided the public with all of the conspicuity benefits of DRLs, while reducing the glare from these light sources.

Approximately 700 comments have been submitted since the NPRM was published in 1998. Many commenters did not want DRLs, regarding them to be of little value and requesting that they be prohibited. Other commenters represented the opposite opinion, stating that DRLs are effective and should be mandatory. Still other commenters supported the proposal to reduce glare from DRLs.

In the intervening period, NHTSA received a petition for rulemaking from General Motors (GM) asking the agency to mandate DRLs on new vehicles.² In support of its December 20, 2001 petition, GM submitted various studies designed to demonstrate the efficacy of DRLs in preventing deaths and injuries associated with daytime crashes. In addition, information was provided on the costs of DRLs. During this time, NHTSA also has studied the impact of DRLs in terms of crash avoidance on U.S. highways.

² Docket No. NHTSA-2001-8876-11.

II. Reason for Withdrawal

After reviewing the comments submitted pursuant to the 1998 NPRM, NHTSA has concluded that there are a number of interrelated issues surrounding DRLs that may best be evaluated in a comprehensive fashion. These issues include: whether DRLs should be optional or mandatory, how to balance the competing goals of conspicuity and prevention of glare when setting intensity levels, what are the levels of cost and benefits associated with DRLs, whether DRLs may reduce the conspicuity of motorcycles or emergency vehicles, whether DRLs mask turn signals or other roadway users, and the extent to which they may distort distance perception or result in failure to use the vehicle's normal headlighting system at night.

Moreover, both the GM studies and NHTSA's own studies suggest that DRLs have the positive potential to reduce crashes. We believe that further research and analysis may provide a better understanding of potential safety benefits of DRLs and optimum performance requirements for those devices. As one example of our ongoing research, NHTSA currently has a study underway on the effect of DRLs on motorcycle conspicuity, that could assist in assessing the safety benefit of DRLs, once completed.

In seeking to address DRL issues on a more comprehensive basis, NHTSA also plans to conduct further deliberations with Transport Canada, particularly regarding its comments to the docket on DRL intensity reduction and on its follow-up comments regarding switching and other issues. Such consultations would promote harmonization of DRL regulation in the North American market.

Accordingly, for all of the reasons discussed above, NHTSA is withdrawing the 1998 NPRM for DRL intensity reduction. We believe that the issue raised in the NPRM would best be resolved in a future comprehensive evaluation of DRL issues that we plan to undertake in response to the petition from GM.

Authority: 49 U.S.C. 322, 30111, 30115, 30117, and 30166; delegation of authority at 49 CFR 1.50.

Issued: March 16, 2004.
Stephen R. Kratzke,
Associate Administrator for Rulemaking.

[FR Doc. 04-6208 Filed 3-18-04; 8:45 am]

BILLING CODE 4910-59-P